DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, email paperwork@hrsa.gov or call the HRSA Reports Clearance Office on (301) 443-1129.

The following request has been submitted to the Office of Management and Budget for review under the Paperwork Reduction Act of 1995:

Proposed Project: Cultural and Linguistic Competency and Health Literacy Data Collection Checklist (OMB No. 0915-xxxx)—[New].

The Health Resources and Services Administration's (HRSA) vision is “Healthy Communities, Healthy People.” In addition, the HRSA mission statement is “To improve health and achieve health equity through access to quality services, a skilled health workforce and innovative programs.” This framework supports a health care system that assures access to comprehensive, culturally competent, quality care.

Performance measures have been useful in helping HRSA to assess the progress of each grantee. The measure used will be informed by the degree to which HRSA-funded programs have incorporated cultural and linguistic competence and health literacy elements into their policies, guidelines, contracts and training. HRSA bureaus and offices will be encouraged to incorporate this performance measure (or a modified version of this measure) into their funding opportunity announcements, as either a stand-alone or integrated measure.

Using a scale of 0-3, the grantee may use the Cultural and Linguistic Competency and Health Literacy Data Collection Checklist to assess if specified cultural/linguistic competence and health literacy elements have been incorporated into their policies, guidelines, contracts and training. Each HRSA program may add data sources and year of data used for scoring to provide a rationale for determining a score, and/or applicability of elements to a specific program.

The goal of this checklist is to increase the number of HRSA-funded programs that have integrated cultural and linguistic competence and health literacy into their policies, guidelines, contracts and training. In addition, variations of the proposed tool have proven useful for grantees' self-assessment. This proposed tool can also offer insights into technical assistance challenges and opportunities.

The annual estimate of burden is as follows:

Instrument | Number of respondents | Responses per respondent | Total responses | Hours per response | Total burden hours
Data Collection Checklist | 900 | 1 | 900 | 1 | 900
Total | 900 | 1 | 900 | 1 | 900

Written comments and recommendations concerning the proposed information collection should be sent within 30 days of this notice to the desk officer for HRSA, either by email to OIRA_submission@omb.eop.gov or by fax to (202) 395-6974. Please direct all correspondence to the “attention of the desk officer for HRSA.”

Dated: December 8, 2011.
Reva Harris,
Acting Director, Division of Policy and Information Coordination.

[FR Doc. 2011-32014 Filed 12-13-11; 8:45 am]

BILLING CODE 4165-15-P